DEPARTMENT OF THE INTERIOR

National Park Service

[NPS-WASO-NAGPRA-NPS0034453; PPWOCRADN0-PCU00RP14.R50000]

Notice of Inventory Completion: Penn State University, Matson Museum of Anthropology, University Park, PA

AGENCY: National Park Service, Interior.

ACTION: Notice.

SUMMARY: The Matson Museum of Anthropology, Penn State University has completed an inventory of human remains in consultation with the appropriate Indian Tribes or Native Hawaiian organizations and has determined that there is no cultural affiliation between the human remains and any present-day Indian Tribes or Native Hawaiian organizations. Representatives of any Indian Tribe or Native Hawaiian organization not identified in this notice that wish to request transfer of control of these human remains should submit a written request to the Matson Museum of Anthropology. If no additional requestors come forward, transfer of control of the human remains to the Indian Tribes or Native Hawaiian organizations stated in this notice may proceed.

DATES: Representatives of any Indian Tribe or Native Hawaiian organization not identified in this notice that wish to request transfer of control of these human remains should submit a written request with information in support of the request to the Matson Museum of Anthropology at the address in this notice by October 6, 2022.

FOR FURTHER INFORMATION CONTACT: Dr. James Doyle, Director, Matson Museum of Anthropology, Penn State University, 410 Carpenter Building, University Park, PA 16802, telephone (814) 865-2033, email matsonmuseum@psu.edu.

SUPPLEMENTARY INFORMATION: Notice is here given in accordance with the Native American Graves Protection and Repatriation Act (NAGPRA), 25 U.S.C. 3003, of the completion of an inventory of human remains under the control of the Matson Museum of Anthropology, Penn State University, University Park, PA. The human remains were removed from Humboldt and Modoc Counties, CA.

This notice is published as part of the National Park Service's administrative responsibilities under NAGPRA, 25 U.S.C. 3003(d)(3) and 43 CFR 10.11(d). The determinations in this notice are the sole responsibility of the museum, institution, or Federal agency that has control of the Native American human remains. The National Park Service is not responsible for the determinations in this notice.

Consultation

A detailed assessment of the human remains was made by the Matson Museum of Anthropology professional staff in consultation with representatives of the Bear River Band of the Rohnerville Rancheria, California; Blue Lake Rancheria, California; Klamath Tribes; and the Wiyot Tribe, California (previously listed as Table Bluff Reservation—Wiyot Tribe) (hereafter referred to as “The Tribes”).

History and Description of the Remains

In the early 20th century, human remains representing, at minimum, 18 individuals were removed by collector H. H. Stuart from Tuluwat Island and other sites in what are today Humboldt and Modoc Counties, CA. These human remains were later purchased by Mr. Howard K. Lucas of Eureka, CA, who was once an employee of Penn State University. Lucas, who began collecting prehistoric items in 1902, purchased some items from collectors such as Stuart in the 1920s and 1930s. The museum's accession file does not specify how and when the human remains described in this notice were acquired by Lucas or Stuart. Upon Howard Lucas's death, the Lucas collection was transferred to his wife, Mrs. Bertha H. Lucas. In 1978, Mrs. Lucas donated the collection to Penn State University, where it was cared for by the Department of Anthropology. The Matson Museum of Anthropology accessioned the human remains upon moving to its current location in 1987. Only general geographic locations were associated with the human remains, apart from the human remains designated PSU 27:150, which were recorded as having been removed from Tuluwat Island (formerly Gunther or Indian Island). These human remains belong to an adult female. The human remains of the other 17 individuals belong to 10 adult males (PSU 27.115; PSU 27.116; PSU 27.117; PSU 27.118; PSU 27.119; PSU 27.122; PSU 27.123; PSU 27.124; PSU 27.126; and PSU 27.128); one young adult male (PSU 27.121 (2)); three adult females (PSU 27.120; PSU 27.127; PSU 27.129); one young adult of indeterminate sex (PSU 27.156); one possible male of indeterminate age (PSU 27.125); and one cremated adult (PSU 27.158). No known individuals were identified. No associated funerary objects are present.

Determinations Made by the Matson Museum of Anthropology, Penn State University

Officials of the Matson Museum of Anthropology, Penn State University have determined that:

• Pursuant to 25 U.S.C. 3001(9), the human remains described in this notice are Native American based on archival information and osteological analysis.

• Pursuant to 25 U.S.C. 3001(9), the human remains described in this notice represent the physical remains of 18 individuals of Native American ancestry.

• Pursuant to 25 U.S.C. 3001(2), a relationship of shared group identity cannot be reasonably traced between the Native American human remains and any present-day Indian Tribe.

• According to final judgments of the Indian Claims Commission or the Court of Federal Claims, the land from which the Native American human remains were removed is the aboriginal land of The Tribes.

• Treaties, Acts of Congress, or Executive Orders, indicate that the land from which the Native American human remains were removed is the aboriginal land of The Tribes.

• Pursuant to 43 CFR 10.11(c)(1), the disposition of the human remains may be to The Tribes.

Additional Requestors and Disposition

Representatives of any Indian Tribe or Native Hawaiian organization not identified in this notice that wish to request transfer of control of these human remains should submit a written request with information in support of the request to Dr. James Doyle, Director, Matson Museum of Anthropology, Penn State University, 410 Carpenter Building, University Park, PA 16802, telephone (814) 865-2033, email matsonmuseum@psu.edu, by October 6, 2022. After that date, if no additional requestors have come forward, transfer of control of the human remains to The Tribes may proceed.

The Matson Museum of Anthropology, Penn State University is responsible for notifying The Tribes that this notice has been published.

Dated: August 29, 2022.
Melanie O'Brien,
Manager, National NAGPRA Program.

[FR Doc. 2022-19172 Filed 9-2-22; 8:45 am]

BILLING CODE 4312-52-P